INTERNATIONAL TRADE COMMISSION

[Inv. No. 337-TA-492]

In the Matter of Certain Plastic Grocery and Retail Bags; Notice of Issuance of General Exclusion Order; Termination of the Investigation

AGENCY: U.S. International Trade Commission.

ACTION: Notice.

SUMMARY: Notice is hereby given that the U.S. International Trade Commission, having previously determined not to review the final initial determination (ID) issued by the presiding administrative law judge (ALJ) finding a violation of section 337 of the Tariff Act of 1930, 19 U.S.C. 1337, in the above-captioned investigation, has issued a general exclusion order, and terminated the investigation.

FOR FURTHER INFORMATION CONTACT: Andrea Casson, Esq., Office of the General Counsel, U.S. International Trade Commission, 500 E Street, SW., Washington, DC 20436, telephone (202) 205-3105. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on 202-205-1810.

SUPPLEMENTARY INFORMATION: The Commission instituted this investigation on May 2, 2003, based on a complaint filed by Superbag Corp. (“Superbag”) of Houston, Texas, against four respondents. 68 FR 24755 (May 8, 2003). These respondents were Thai Plastic Bags Company, Ltd. of Thailand; Hmong Industries, Inc. of St. Paul, Minnesota; Spectrum Plastics, Inc. (“Spectrum”) of Cerritos, California; and Pan Pacific Plastics Mfg., Inc. (“Pan Pacific”) of Union City, California. Subsequently, the Commission granted Superbag's motion to amend the complaint to add six additional respondents to the investigation—Advance Polybag, Inc. (“API”) of Metarie, Louisiana; Universal Polybag Co., Ltd. (“Universal”) of Thailand; Prime Source International LLC (“Prime Source”) of Westerville, Ohio; Nantong Huasheng Plastic Products Co. (“Nantong”) of China; Bee Lian Plastic Marketing PTE Ltd. (“Bee Lian”) of Singapore; and Polson Products Limited of Hong Kong. 68 FR 54740 (Sept. 18, 2003).

Superbag's complaint alleges violations of section 337 of the Tariff Act of 1930 in the importation into the United States, sale for importation, and/or sale within the United States after importation of certain T-styled plastic grocery and retail bags that infringe one or more of claims 1-8 and 15-19 of Superbag's U.S. Patent No. 5,188,235 (“the ‘235 patent”).

Prior to the hearing before the ALJ, the Commission terminated the investigation as to respondents Spectrum and Prime Source on the basis of consent orders, and as to respondents API, Universal, and Pan Pacific on the basis of settlement agreements. The Commission also found respondents Nantong and Bee Lian in default.

On March 30, 2004, the ALJ issued his final ID and recommended determination on remedy and bonding, finding that there is a violation of section 337 and recommending that the Commission issue a general exclusion order. He also recommended that the bond permitting temporary importation during the Presidential review period be set at 80 percent of the entered value.

On May 28, 2004, the Commission issued notice that it had determined not to review the ID, and requested written submissions on remedy, the public interest, and bonding. 69 FR 31638 (June 4, 2004). Superbag and the Commission investigative attorney timely filed submissions that addressed the form of remedy, if any, that should be ordered, the effect of a remedy on the public interest, and the amount of the bond that should be imposed during the 60-day Presidential review period.

Having reviewed the record in this investigation, including the written submissions of the parties, the Commission determined that the appropriate form of relief is a general exclusion order prohibiting the unlicensed entry for consumption of plastic grocery and retail bags that infringe one or more of claims 1-8 and 15-19 of the ‘235 patent. The Commission also determined that the public interest factors enumerated in subsection (d) of section 337 do not preclude the issuance of the aforementioned general exclusion order, and that the bond during the Presidential review period shall be in the amount of 80 percent of the entered value of the articles in question.

This action is taken under the authority of section 337 of the Tariff Act of 1930, 19 U.S.C. 1337, and §§ 210.49-210.51 of the Commission's Rules of Practice and Procedure, 19 CFR 210.49-210.51.

By order of the Commission.
Issued: August 10, 2004.
Marilyn R. Abbott,
Secretary to the Commission.

[FR Doc. 04-18521 Filed 8-12-04; 8:45 am]

BILLING CODE 7020-02-P